DEPARTMENT OF ENERGY

Federal Energy Regulatory Commission

Combined Notice of Filings

Take notice that the Commission has received the following Natural Gas Pipeline Rate and Refund Report filings:

Filings Instituting Proceedings

Docket Numbers: RP14-53-000.

Applicants: Natural Gas Pipeline Company of America.

Description: Negotiated Rate—Integrys to be effective 11/1/2013.

Filed Date: 10/17/13.

Accession Number: 20131017-5106.

Comments Due: 5 p.m. ET 10/29/13.

Docket Numbers: RP14-54-000.

Applicants: Natural Gas Pipeline Company of America.

Description: Negotiated Rate—Castleton LPS RO to be effective 10/17/2013.

Filed Date: 10/17/13.

Accession Number: 20131017-5108.

Comments Due: 5 p.m. ET 10/29/13.

Docket Numbers: RP14-55-000.

Applicants: Natural Gas Pipeline Company of America.

Description: Negotiated Rate—NJR LPS RO to be effective 10/17/2013.

Filed Date: 10/17/13.

Accession Number: 20131017-5111.

Comments Due: 5 p.m. ET 10/29/13.

Docket Numbers: RP14-56-000.

Applicants: Natural Gas Pipeline Company of America.

Description: Negotiated Rate—NJR to be effective 10/17/2013.

Filed Date: 10/17/13.

Accession Number: 20131017-5113.

Comments Due: 5 p.m. ET 10/29/13.

Docket Numbers: RP14-57-000.

Applicants: Natural Gas Pipeline Company of America.

Description: Negotiated Rate—Renaissance LPS RO to be effective 10/17/2013.

Filed Date: 10/17/13.

Accession Number: 20131017-5115.

Comments Due: 5 p.m. ET 10/29/13.

Docket Numbers: RP14-58-000.

Applicants: Iroquois Gas Transmission System, L.P.

Description: 10/17/13 Negotiated Rates—JP Morgan Ventures Energy Corp (HUB) 6025-89 to be effective 11/1/2013.

Filed Date: 10/17/13.

Accession Number: 20131017-5118.

Comments Due: 5 p.m. ET 10/29/13.

Docket Numbers: RP14-59-000.

Applicants: Iroquois Gas Transmission System, L.P.

Description: 10/17/13 Negotiated Rates—Rainbow Energy Marketing Corp. (HUB) 7400-89 to be effective 11/1/2013.

Filed Date: 10/17/13.

Accession Number: 20131017-5119.

Comments Due: 5 p.m. ET 10/29/13.

Docket Numbers: RP14-60-000.

Applicants: Iroquois Gas Transmission System, L.P.

Description: 10/17/13 Negotiated Rates—Tenaska Gas Storage, LLC (HUB) 1175-89 to be effective 11/1/2013.

Filed Date: 10/17/13.

Accession Number: 20131017-5121.

Comments Due: 5 p.m. ET 10/29/13.

Docket Numbers: RP14-61-000.

Applicants: Iroquois Gas Transmission System, L.P.

Description: 10/17/13 Negotiated Rates—United Energy Trading, LLC (HUB) 5095-89 to be effective 11/1/2013.

Filed Date: 10/17/13.

Accession Number: 20131017-5122.

Comments Due: 5 p.m. ET 10/29/13.

Docket Numbers: RP14-62-000.

Applicants: Eastern Shore Natural Gas Company.

Description: Eastern Shore Storage Tracker Filing to be effective 10/1/2013.

Filed Date: 10/18/13.

Accession Number: 20131018-5064.

Comments Due: 5 p.m. ET 10/30/13.

Docket Numbers: RP14-63-000.

Applicants: Centra Pipelines Minnesota Inc.

Description: Revised Index of Shippers Oct 2013 to be effective 12/1/2013.

Filed Date: 10/18/13.

Accession Number: 20131018-5092.

Comments Due: 5 p.m. ET 10/30/13.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 21, 2013.
Nathaniel J. Davis, Sr.,
Deputy Secretary.

[FR Doc. 2013-25534 Filed 10-28-13; 8:45 am]

BILLING CODE 6717-01-P